DEPARTMENT OF ENERGY

Federal Energy Regulatory Commission

[Docket No. CP06-470-000; Docket Nos. CP06-471-000; CP06-472-000; CP06-473-000; Docket No. CP06-474-000]

Southern LNG, Inc.; Elba Express Company, L.L.C.; Southern Natural Gas Company; Notice of Applications

October 10, 2006.

Take notice that on September 29, 2006, Southern LNG, Inc. (SLNG), Elba Express Company, L.L.C. (EEC), and Southern Natural Gas Company (SNG), Post Office Box 2563, Birmingham, Alabama 35202-2563, concurrently filed related applications under sections 3 and 7 of the Natural Gas Act (NGA) and Parts 153,157, 284 and 380 of the Commission's regulations for authorizations necessary to expand SLNG's liquefied natural gas (LNG) import terminal in Georgia and to construct, operate and acquire facilities to move re-vaporized LNG to downstream markets in the United States. The projects are collectively known as the Elba III Project, all as more fully set forth in the application which is on file with the Commission and open for public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

SLNG seeks authorization under section 3 of the NGA to expand its existing LNG import terminal on Elba Island in Chatham County, Georgia in two phases by: (i) Constructing two new LNG storage tanks, each having a storage capacity equivalent to 4.22 Bcf, (ii) constructing additional facilities to provide 900 MMcf per day of vaporization capacity at the end of phase two, and (iii) modifying marine facilities to accommodate larger LNG tankers and speed simultaneous unloading of two LNG tankers. SLNG proposes to provide service from the expansion under proposed Rate Schedule LNG-3 and also seeks authority to provide service under negotiated rates. Finally, SLNG seeks authority under section 7(b) of the NGA to abandon an unutilized dock.

EEC requests authority under section 7(c) of the NGA to: (i) Acquire an undivided interest in SNG's Twin 30s pipelines which extend from SLNG's Elba Island terminal to SNG's pipeline system in Port Wentworth, Georgia; (ii) construct and operate a new 42-inch and 36-inch diameter, approximately 189 mile interstate pipeline extending from Port Wentworth through Effingham, Screven, Jenkins, Burke, Jefferson, Glascock, Warren, McDuffie, Wilkes, and Elbert Counties, Georgia to interconnections with Transcontinental Gas Pipe Line Corporation (Transco) in Hart County, Georgia and Anderson County, South Carolina; and to construct and operate a 10,000 horsepower compressor station on the new line in Jenkins County. Upon installation of the compression the pipeline will be able to provide up to 1,175 MMcf per day of transportation to the Transco interconnections. EEC also requests blanket construction and transportation certificates pursuant to Parts 157 and 284 of the Commission's regulations, respectively, and approval of its pro forma transportation tariff.

SNG seeks authority to transfer pursuant to section 7(b) of the NGA an undivided interest in its Twin 30s pipelines to EEC and seeks authority under section 7(c) to acquire an undivided interest in a portion of the pipeline proposed by EEC.

Any questions regarding this application should be directed to James D. Johnston, Senior Counsel, Southern Natural Gas Company, 1900 Fifth Avenue North, Birmingham, Alabama 35203, telephone: 205-326-2019, e-mail: james.johnston@elpaso.com.

On February 1, 2006, the Commission granted SNG's request to utilize the National Environmental Policy Act (NEPA) Pre-Filing Process and assigned Docket No. PF06-14-000 to staff activities involving the Elba III Project. Now, as of the filing of these applications on September 29, 2006, the NEPA Pre-Filing Process for this project has ended. From this time forward, the Elba III Project proceeding will be conducted in the docket numbers listed above in the caption of this Notice.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: October 31, 2006.

Magalie R. Salas,
Secretary.

[FR Doc. E6-17200 Filed 10-16-06; 8:45 am]

BILLING CODE 6717-01-P